DEPARTMENT OF DEFENSE

Office of the Secretary

[Docket ID: DoD-2012-OS-0162]

Privacy Act of 1974; System of Records

AGENCY: Defense Contract Audit Agency, DoD.

ACTION: Notice to amend a System of Records.

SUMMARY: The Defense Contract Audit Agency is amending a system of records notice in its existing inventory of record systems subject to the Privacy Act of 1974 (5 U.S.C. 552a), as amended.

DATES: This proposed action will be effective on January 22, 2013 unless comments are received which result in a contrary determination. Comments will be accepted on or before January 22, 2013.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Keith Mastromichalis, DCAA FOIA/Privacy Act Management Analyst, 8725 John J. Kingman Road, Suite 2135, Fort Belvoir, VA 22060-6219, Telephone number: (703) 767-1022.

SUPPLEMENTARY INFORMATION: The Defense Contract Audit Agency systems of records notices subject to the Privacy Act of 1974 (5 U.S.C. 552a), as amended, have been published in the Federal Register and are available from the address in FOR FURTHER INFORMATION CONTACT.

The proposed changes to the record system being amended are set forth below. The proposed amendment is not within the purview of subsection (r) of the Privacy Act of 1974 (5 U.S.C. 552a), as amended, which requires the submission of a new or altered system report.

Dated: December 18, 2012.
Aaron Siegel,
Alternate OSD Federal Register Liaison Officer, Department of Defense.

RDCAA 215.1

System name:

Voluntary Leave Transfer Program (January 31, 1997, 62 FR 4731).

Changes:

* * * * *

Categories of individuals covered by the system:

Delete and replace with “DCAA government employees who have volunteered to participate in the leave transfer program as either a donor or a recipient.”

* * * * *

Authority for maintenance of the system:

Delete and replace with “5 U.S.C. 6331 et seq., Leave; 10 U.S.C. 136, Assistant Secretaries of Defense; 5 CFR part 630, Absence and Leave; DoD Directive 5105.36, Defense Contract Audit Agency; E.O. 9397 (SSN), as amended.”

* * * * *

Safeguards:

Delete and replace with “Electronic records are maintained in password-protected network and accessible only to DCAA personnel, management, and administrative support personnel on a need-to-know basis to perform their duties. Access to the network where records are maintained requires a valid Common Access Card (CAC). Paper records are secured in locked cabinets, offices, or buildings during non-duty hours. The same security standards currently applied to individually-issued CAC card are applicable to paper compilations.”

* * * * *

Contesting record procedures:

Delete and replace with “DCAA's rules for accessing records, for contesting contents and appealing initial agency determinations are published in DCAA Instruction 5410.10; 32 CFR part 317; or may be obtained from the system manager.”

* * * * *

[FR Doc. 2012-30741 Filed 12-20-12; 8:45 am]

BILLING CODE 5001-06-P